CONSUMER PRODUCT SAFETY COMMISSION

Sunshine Act Meetings

TIME AND DATE: Wednesday, July 7, 2010, 10 a.m.-12:30 p.m.

PLACE: Hearing Room 420, Bethesda Towers, 4330 East West Highway, Bethesda, Maryland.

STATUS: Commission Meeting—Open to the Public.

MATTERS TO BE CONSIDERED: 1. Decisional Matters: (a) Accreditation for Third Party Conformity Assessment Bodies for Testing for Children's Products: Carpets and Rugs; and (b) Accreditation for Third Party Conformity Assessment Bodies for Testing for Children's Products: Vinyl Plastic Film.

2. Cribs—Notice of Proposed Rulemaking (NPR).

3. Interim Policy and Partial Lifting of the Stay on Component Testing and Certification of Children's Toys and Child Care Articles to the Phthalates Limits.

A live Webcast of the Meeting can be viewed at http://www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: June 29, 2010.
Todd A. Stevenson,
Secretary.

[FR Doc. 2010-16501 Filed 7-1-10; 4:15 pm]

BILLING CODE 6355-01-P